DEPARTMENT OF AGRICULTURE

Food and Nutrition Service

Agency Information Collection Activities: Proposed Collection; Comment Request—Generic Clearance for the Special Nutrition Programs Quick Response Surveys (SNP QRS)

AGENCY: Food and Nutrition Service (FNS), USDA.

ACTION: Notice.

SUMMARY: In accordance with the Paperwork Reduction Act of 1995, this notice invites the general public and other public agencies to comment on this proposed information collection. This collection is a revision of a currently approved collection to conduct short, quick-turnaround surveys of State and local agencies providing food, education, and other services in the Child Nutrition and Supplemental Nutrition and Safety Programs administered at the federal level by the Food and Nutrition Service (FNS). These programs include the Special Supplemental Nutrition Program for Women, Infants, and Children; National School Lunch Program; School Breakfast Program; Special Milk Program; Fresh Fruit and Vegetable Program; Summer Food Service Program; Child and Adult Care Food Program; USDA Foods in Schools; Food Distribution Program on Indian Reservations; The Emergency Food Assistance Program; and the Commodity Supplemental Food Program.

DATES: Written comments must be received on or before February 16, 2021.

ADDRESSES: Comments may be submitted via email to amy.rosenthal@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Amy Rosenthal at 703-305-2017 or amy.rosenthal@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Generic Clearance for the Special Nutrition Programs Quick Response Surveys (SNP QRS).

Form Number: N/A.

OMB Number: 0584-0613.

Expiration Date: 2/28/21.

Type of Request: Revision of a currently approved collection.

Abstract: The Food and Nutrition Service (FNS) intends to request approval from the Office of Management and Budget (OMB) for a generic clearance that will allow FNS to conduct short, quick-turnaround surveys of State, local, and Tribal agencies and businesses that receive food, funds, and nutrition information through the Child Nutrition and Supplemental Nutrition and Safety Programs.

These programs include the Special Supplemental Nutrition Program for Women, Infants, and Children (WIC); National School Lunch Program (NSLP); School Breakfast Program (SBP); Special Milk Program; Fresh Fruit and Vegetable Program (FFVP); Summer Food Service Program (SFSP); Child and Adult Care Food Program (CACFP); USDA Foods in Schools; Food Distribution Program on Indian Reservations (FDPIR); The Emergency Food Assistance Program (TEFAP); and the Commodity Supplemental Food Program (CSFP).

The Healthy Hunger-Free Kids Act of 2010 (Pub. L. 111-296, Sec. 305) mandates programs under its authorization to cooperate with USDA program research and evaluation activities. Traditionally, FNS conducts large, program-specific studies to collect information on numerous features of each program. Such studies often take several years to complete. Quick response surveys provide a system for rapidly collecting current information on a specific feature or issue, and, therefore, enable FNS to administer the programs more effectively.

The data collection activities under this clearance will include: (1) An annual sample frame data collection and (2) quick-response surveys. The annual sample frame data collection will request contact information from the States for the local agencies within their purview. The quick-response survey data collections will be used to survey key administrators of the SNP at the State, local, and site level to answer policy and implementation questions.

Following standard OMB requirements, FNS will submit a change request to OMB for each data collection activity undertaken under this generic clearance. The respondents will be identified at the time that each change request is submitted to OMB. FNS will provide OMB with the instruments and supporting materials describing the research project and specific pre-testing activities.

This revision makes minor changes to the information collection as originally approved. The USDA Foods in Schools program is included as a separate program, and minor updates to the sample sizes reflect the most recent estimates of the number of State, Local and Tribal agencies and businesses involved in the programs and the distribution of local-level providers between government agencies and businesses. The type of information to be collected, the methods of collection, and the frequency of collection will remain the same; however, we have removed references to reminder emails from the burden table. The estimated number of total responses has decreased from 83,582 (250,745 over three years) to 36,515 (109,545 over three years), and the total burden hours estimate has decreased from 11,508 (34,523 hours over three years) to 10,288 (30,864 hours over 3 years).

Affected Public: State, Local and Tribal Governments and Businesses. State, Local and Tribal government respondents will include: (1) State Program Directors, including WIC State Agency directors and nutrition education and breastfeeding coordinators, directors of the Child Nutrition programs (NSLP, SBP, FFVP, SFSP, CACFP), directors of State Distributing Agencies (CSFP, TEFAP, USDA Foods in Schools), and FDPIR State Agencies and Indian Tribal Organizations; and (2) local-level program administrators, including Local WIC Agencies and Sites, School Food Authorities (SFAs), Schools, SFSP Sponsors and Sites, USDA Foods in Schools Local Agencies and Providers, TEFAP Eligible Recipient Agencies (ERAs) and Emergency Food Organizations (EFOs), and CSFP Local Agencies. Business respondents will include not-for-profit local WIC Sites, not-for-profit SFSP Sponsors and Sites, for-profit and not-for-profit CACFP Sponsors and Providers, not-for-profit TEFAP ERAs and EFOs, and not-for-profit CSFP Local Agenices.

Estimated Number of Respondents: The total estimated number of annual respondents is 35,999. This includes all State Program Directors (516 total) and a sample of local-level program administrators from local government agencies (17,203 total) and businesses (18,280 total). The total number of respondents includes 7,097 local program administrators from both local agencies (3,441 total) and businesses (3,656 total) whom FNS expects will not respond to the QRS survey request.

Estimated Number of Responses per Respondent: Once per year, each State agency responsible for a program will be asked to provide contact information for their respective local agencies as part of the sample frame data collection. State agencies will also be asked to complete up to one survey per year for each program it oversees. Local agencies and businesses will be asked to complete up to one survey per year for each program they operate. FNS estimates that respondents will average 1.02 responses per year (29,418 responses/28,902 respondents), with non-respondents averaging one response per year. Across all participants (respondents and non-respondents combined) the estimated average number of responses per year is approximately 1.01 (36,515 responses/35,999 total respondents).

Estimated Total Annual Responses: The estimated total annual responses is 36,515, for a total of 109,545 responses over all three years.

Estimated Time per Response: The estimated time of response ranges from 20 minutes (.33 hours) to 1 hour for respondents and 1 minute (.02 hours) for non-respondents, depending on the data collection activity, as shown in the table below. The average estimated time across all responses is approximately 17 minutes (0.28 hours).

Estimated Total Annual Burden on Respondents: The estimated total annual burden is 10,288 hours, for a total of 30,864 over all three years. See the table below for estimated total annual burden for each type of respondent.

Pamilyn Miller,
Administrator, Food and Nutrition Service.

[FR Doc. 2020-27834 Filed 12-17-20; 8:45 am]

BILLING CODE 3410-30-C